DEPARTMENT OF COMMERCE

International Trade Administration

[Application 10-00004]

Export Trade Certificate of Review

ACTION: Notice of Application for an Export Trade Certificate of Review From Canned Wild Salmon Export Council, LLC (“CWSEC”).

SUMMARY: The Office of Competition and Economic Analysis, International Trade Administration, Department of Commerce, has received an application for an Export Trade Certificate of Review (“Certificate”). This notice summarizes the conduct for which certification is sought and requests comments relevant to whether the Certificate should be issued.

FOR FURTHER INFORMATION CONTACT: Joseph E. Flynn, Director, Office of Competition and Economic Analysis, International Trade Administration, by telephone at (202) 482-5131 (this is not a toll free number) or E-mail at etca@trade.gov.

SUPPLEMENTARY INFORMATION: Title III of the Export Trading Company Act of 1982 (15 U.S.C. 4011-21) authorizes the Secretary of Commerce to issue Export Trade Certificates of Review. An Export Trade Certificate of Review protects the holder and the members identified in the Certificate from state and federal government antitrust actions and from private treble damage antitrust actions for the export conduct specified in the Certificate and carried out in compliance with its terms and conditions. Section 302(b)(1) of the Export Trading Company Act of 1982 and 15 CFR 325.6(a) require the Secretary to publish a notice in the Federal Register, identifying the applicant and summarizing its proposed export conduct.

Request for Public Comments:

Interested parties may submit written comments relevant to the determination whether a Certificate should be issued. If the comments include any privileged or confidential business information, it must be clearly marked and a nonconfidential version of the comments (identified as such) should be included. Any comments not marked “privileged” or “confidential business information” will be deemed to be nonconfidential. An original and five (5) copies, plus two (2) copies of the nonconfidential version, should be submitted no later than 20 days after the date of this notice to: Office of Competition and Economic Analysis, International Trade Administration, U.S. Department of Commerce, Room 7021X, Washington, DC 20230, or transmitted by E-mail at etca@trade.gov. Information submitted by any person is exempt from disclosure under the Freedom of Information Act (5 U.S.C. 552). However, nonconfidential versions of the comments will be made available to the applicant if necessary for determining whether or not to issue the Certificate. Comments should refer to this application as “Export Trade Certificate of Review, application number 10-00004.” A summary of the application follows.

Summary of the Application:

Applicant: Canned Wild Salmon Export Council (“CWSEC”).

Contact: James R. Hennessey, Smith and Hennessey, 316 Occidental Avenue South, Suite 500, Seattle, Washington 98104.

Telephone: (206) 292-1770.

Application No.: 10-00004.

Date Deemed Submitted: July 14, 2010.

Members (in addition to applicant): CWSEC members include the following entities: Alaska General Seafoods, Kenmore, WA; Icicle Seafoods, Inc., Seattle WA; Ocean Beauty Seafoods, LLC, Seattle, WA; Peter Pan Seafoods, Inc., Seattle, WA; Trident Seafoods Corporation, Seattle, WA; and Yardarm Knot, Inc., Seattle, WA.

CWSEC seeks a Certificate of Review to engage in the Export Trade Activities and Methods of Operation described below for the following Export Trade and Export Markets:

Export Trade

Products

Shelf stable non-refrigerated salmon product packed in a can or retort pouch, also known as canned salmon. Shelf stable means that the product can be safely stored in a sealed container at room or ambient temperature for a usefully long shelf life. A retort pouch is a flexible package in which prepared food is hermetically sealed for long-term unrefrigerated storage.

Export Markets

The export markets include all parts of the world except for Canada and the United States (the fifty states of the United States, the District of Columbia, the Commonwealth of Puerto Rico, the Virgin Islands, American Samoa, Guam, the Commonwealth of the Northern Mariana Islands, and the Trust Territory of the Pacific Islands).

Export Trade Activities and Methods of Operation

1. Canned Wild Salmon Export Council, LLC is seeking certification for engaging in the following conduct:

a. Sales Price. Establish sales prices, minimum sales prices, target sales prices and/or minimum target sales prices, and other terms of sales in the Export Markets, including but not limited to timing of payments, timing of sales, restrictions on bidding and audits performed by the customer in the Export Markets;

b. Marketing and Distribution. Conduct marketing and distribution of canned salmon in the Export Markets;

c. Promotion. Conduct promotion of canned salmon in the Export Markets;

d. Quantities. Agree on quantities of canned salmon to be sold in export markets, provided that each Member shall be required to dedicate only such quantities as each such Member shall independently determine;

e. Market and Customer Allocation. Allocate geographic areas or countries in the Export Markets and/or customers in the Export Markets among Members;

f. Refusals to Deal. Refuse to quote prices for canned salmon, or to market or sell canned salmon to any customers in the Export Markets, or any countries or geographical area in the Export Markets;

g. Exclusive/Nonexclusive Deals. Enter into exclusive and nonexclusive agreements appointing one or more Export Intermediaries for the sale of canned salmon with price, quantity, territorial and/or customer restrictions as provided above; and

h. Customer Audits. Collectively agree on matters related to audits (ethical, social, technical, or other) that may be required by customers of the Members in the Export Markets;

2. Canned Wild Salmon Export Council, LLC is seeking certification for sharing among its Members the following information:

a. Information about sale and marketing efforts for the Export Markets, activities and opportunities for sales of canned salmon in the Export Markets, selling strategies for the Export Markets, sales for the Export Markets, contract and spot pricing in the Export Markets, projected demands in the Exports Markets for canned salmon, terms of sale in the Export Markets, prices and availability of canned salmon in the Export Markets and specifications for canned salmon by customers in the Export Markets;

b. Information about the price, quantity, quality, source, and delivery dates of canned salmon available for the Members to export;

c. Information about the terms and conditions of contracts for sale in the Export Markets to be considered and/or bid on;

d. Information about joint bidding or selling arrangements for the Export Markets and allocations of sales resulting from such arrangements among the Members;

e. Information about expenses specific to exporting to and within the Export Markets, including without limitation transportation, insurance, inland freights to port, port storage, commissions, documentation, financing, customs, duties, and taxes;

f. Information about U.S. and foreign legislation and regulations, including without limitation federal marketing assistance programs affecting sales of canned salmon for the Export Markets;

g. Information about export operations, including without limitation, sales and distribution networks, prior export sales by Members; and

h. Information about export customer credit terms and credit history.

3. Canned Wild Salmon Export Council, LLC, and any or all of its Members, is seeking authority to meet and engage in the activities described in paragraphs 1 and 2, above.

Dated: July 22, 2010.
Joseph E. Flynn,
Director, Office of Competition and Economic Analysis.

[FR Doc. 2010-18571 Filed 7-28-10; 8:45 am]

BILLING CODE P